DEPARTMENT OF DEFENSE

Department of the Army; Corps of Engineers

Intent To Prepare a Draft Environmental Impact Statement for Potential Multipurpose Projects for Ecosystem Restoration, Flood Damage Reduction, and Recreation Alternatives Within and Along the Portion of the San Antonio River Located in San Antonio, Bexar County, TX

AGENCY: Department of the Army, U.S. Army Corps of Engineers, DoD.

ACTION: Notice of intent.

SUMMARY: Section 335 of the Water Resources Development Act (WRDA) of 2000, passed by Congress, amended the San Antonio Channel Improvement Project (SACIP) by authorizing ecosystem restoration and recreation as project purposes in addition to the previously authorized flood damage reduction project purpose. An initial assessment based on implementation guidance for Section 335 indicates a Federal interest in continuing with more detailed studies for these purposes. In accordance with the National Environmental Policy Act, a Draft Environmental Impact Statement (DEIS) will be prepared to evaluate and compare ecosystem restoration, flood damage reduction, and recreation alternatives within and along two reaches of the San Antonio River. The DEIS will also assess the impacts to the quality of the human environment associated with each alternative. The northern reach study area will be bound by Hildebrand Avenue and Josephine Street, and the southern reach study area will be bound by South Alamo Street and a point approximately 0.7 miles south of Interstate 410 near Mission Espada. Past channelization and clearing of floodways associated with the SACIP, along with urbanization, has significantly degraded the terrestrial and aquatic habitat along and within the San Antonio River. Consequently, ecosystem restoration measures will be developed and evaluated to address the degraded habitats. In addition, recreation measures will be developed and evaluated as complements to proposed ecosystem restoration measures. Opportunities for ecosystem restoration and recreation opportunities will be evaluated primarily in the southern reach. Although preliminary findings indicate that flood damage reduction opportunities would exist to a greater extent in the northern reach compared to the southern reach, both reaches will be evaluated for flood damage reduction opportunities and consistency with past improvements. Flood damage reduction measures will address flooding problems in and around the river, specifically the River Road Community, Brackenridge Park and Golf Course, and businesses along Avenue B and Broadway Avenue.

DATES: Public meeting May 15, 2002 (6 p.m. to 8 p.m.)

ADDRESSES: Meeting location is Blessed Sacrament Academy Gymnasium, 1135 Mission Road, San Antonio, TX 78210.

FOR FURTHER INFORMATION CONTACT: Questions pertaining to the proposed action and DEIS can be answered by: Mr. Thomas R. Vogt, CESWF-PM-C, U.S. Army Corps of Engineers, Fort Worth District, P.O. Box 17300, Fort Worth, TX 76102-0300, telephone (817) 886-1378.

SUPPLEMENTARY INFORMATION: This action is being pursued as part of the SACIP authorized under Section 203 of the Flood Control Act (FCA) of 1954, as amended. The SACIP was originally authorized under the authority of Section 203 of the FCA of 1954 as part of a comprehensive plan for flood protection on the Guadalupe and San Antonio Rivers. All components of the authorized project, with the exception of the reach from Hildebrand Avenue to Josephine Street, have been constructed. Project authorization was further modified by Section 335 of WRDA 2000, which authorized ecosystem restoration and recreation as project purposes in addition to the previously authorized flood damage reduction project purpose.

Alternatives for ecosystem restoration, flood damage reduction, and recreation will be developed and evaluated based on ongoing fieldwork and data collection and past studies conducted by the Corps of Engineers, the San Antonio River Authority, the City of San Antonio. Ecosystem restoration alternatives that will be evaluated include restoring meanders within the San Antonio River, restoring, protecting and expanding the riparian corridor, creating riffle-pool complexes, and constructing wetlands. It is anticipated that ecosystem restoration measures would aid in improving water quality, optimizing aquatic and terrestrial habitat, and minimizing erosion and scouring along and within the river. Alternatives for flood damage reduction measures will be evaluated from both a non-structural and structural aspect. Non-structural measures that will be evaluated include acquisition and removal of structures or flood proofing of structures for protection from potential future flood damage. Structural measures that will be evaluated in the northern reach include diversion channels and/or channel modifications of various widths and depths and/or a combination of these measures. Recreation measures that will be evaluated for the enjoyment of residents and visitors alike include multipurpose trails and passive recreation features, such as interpretive guidance and media and picnic areas. Recreation measures will be developed to a scope and scale compatible with proposed ecosystem restoration measures without significantly diminishing ecosystem benefits.

The public will be invited to participate in the scoping process, invited to attend public meetings, and given the opportunity to review the DEIS. The location and time of the first public meeting will be on Wednesday, May 15, 2002 at the address above, from 6 p.m. to 8 p.m. Subsequent public meetings, if deemed necessary, will be announced in the local news media. Release of the DEIS for public comment is scheduled for Fall 2003. The exact release date, once established, will be announced in the local news media.

Future coordination with other agencies and public scoping will be conducted to ensure full and open participation and aid in the development of the DEIS. All affected Federal, state, and local agencies, affected Indian tribes, and other interested private organizations and parties are hereby invited to participate. Future coordination will also be conducted with the United States Fish and Wildlife Service (USFWS) and the Advisory Council on Historic Preservation (ACHP). The USFWS will furnish information on threatened and endangered species in accordance with the Endangered Species Act. In addition, the USFWS will also be requested to provide support with planning aid and to provide a Fish and Wildlife Coordination Act Report. The State Historic Preservation Office, designated as the State level administer of the national historic preservation program, will be consulted with as required by Section 106 of the National Historic Preservation Act. The ACHP will oversee the Section 106 review process and serve as a mediator should any conflicts or controversies arise.

Luz D. Ortiz,
Army Federal Register Liaison Officer.

[FR Doc. 02-10160 Filed 4-24-02; 8:45 am]

BILLING CODE 3410-20-M